OFFICE OF NATIONAL DRUG CONTROL POLICY

Cancellation of Meeting of the Advisory Commission on Drug Free Communities

Federal Register Citation of Previous Announcement: October 29, 2002 (Volume 67, Number 209, page 66004).

AGENCY: Office of National Drug Control Policy.

ACTION: Notice of cancellation of meeting.

Previously Announced Time and Date of Meeting: November 13, 2002, 9 a.m. to 5 p.m.

Changes in the Meeting: The meeting has been cancelled.

FOR FURTHER INFORMATION CONTACT: Linda V. Priebe, (202) 395-6622.

Dated: November 1, 2002.
Linda V. Priebe,
Assistant General Counsel.

[FR Doc. 02-28295 Filed 11-6-02; 8:45 am]

BILLING CODE 3180-02-P